INTERNATIONAL TRADE COMMISSION

[Investigation No. 337-TA-795]

Certain Video Analytics Software, Systems, Components Thereof, and Products Containing Same; Determination Not To Review an Initial Determination Granting Motion To Amend Complaint and Notice of Investigation

AGENCY: U.S. International Trade Commission.

ACTION: Notice.

SUMMARY: Notice is hereby given that the U.S. International Trade Commission has determined not to review an initial determination (“ID”) (Order No. 16) of the presiding administrative law judge (“ALJ”) granting complainant's motion to amend complaint and notice of investigation.

FOR FURTHER INFORMATION CONTACT: Michael Liberman, Esq., Office of the General Counsel, U.S. International Trade Commission, 500 E Street SW., Washington, DC 20436, telephone (202) 205-3106. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on August 1, 2011, based on a complaint filed by ObjectVideo, Inc. of Reston, Virginia. 76 FR 45859 (Aug. 1, 2011). The complaint, as amended, alleges violations of section 337 of the Tariff Act of 1930 (19 U.S.C. 1337) in the importation into the United States, the sale for importation, and the sale within the United States after importation of certain video analytics software, systems, components thereof, and products containing same by reason of infringement of certain claims of U.S. Patent Nos. 6,696,945; 6,970,083; 7,613,324; 7,424,175; 7,868,912; and 7,932,923. The complaint names Robert Bosch GmbH of Stuttgart, Germany; Bosch Security Systems, Inc. of Fairpoint, New York; Samsung Techwin Co., Ltd. of Seoul, Korea; Samsung Opto-Electronics America, Inc. (d/b/a Samsung Techwin America, Inc.) of Ridgefield Park, New Jersey; Sony Corporation of Tokyo, Japan; and Sony Electronics, Inc., of San Diego, California as respondents.

On December 6, 2011, the ALJ issued an ID (Order No. 16) granting complainant's motion to amend complaint and notice of investigation to add Bosch Sicherheitssysteme GmbH of Grasbrunn, Germany; Bosch Security Systems B.V. of Eindhoven, The Netherlands; Bosch Sicherheitssysteme Engineering GmbH of Nurnberg, Germany; Bosch Security Systems—Sistemas de Seguranca, S.A. of Ovar, Portugal; Bosch (Zhuhai) Security Systems, Co., Ltd. of Zhuhai, China; and Extreme CCTV, Inc. of Burnaby, Canada as respondents. No party petitioned for review of the ID, and the Commission has determined not to review it.

The authority for the Commission's determination is contained in section 337 of the Tariff Act of 1930, as amended, 19 U.S.C. 1337, and in section 210.42(h) of the Commission's Rules of Practice and Procedure, 19 CFR 210.42(h).

By order of the Commission.
Issued: December 30, 2011.
James R. Holbein,
Secretary to the Commission.

[FR Doc. 2012-16 Filed 1-5-12; 8:45 am]

BILLING CODE 7020-02-P